DEPARTMENT OF THE TREASURY

Office of Thrift Supervision

[AC-2: OTS Nos. H-2241, H-3609 and 07874]

Finger Lakes Bancorp, Inc., Geneva, New York; and Savings Bank of the Finger Lakes, Geneva, New York; Approval of Conversion Application

Notice is hereby given that on September 28, 2000, the Managing Director, Office of Supervision, Office of Thrift Supervision, or his designee, acting pursuant to delegated authority, approved the application of Finger Lakes Bancorp, Inc., Geneva, New York, and Savings Bank of the Finger Lakes, Geneva, New York, to convert to the stock form of organization. Copies of the application are available for inspection at the Dissemination Branch, Office of Thrift Supervision, 1700 G Street, NW., Washington, DC 20552, and the Northeast Regional Office, Office of Thrift Supervision, 10 Exchange Place, 18th Floor, Jersey City, New Jersey 07302.

Dated: September 29, 2000.
By the Office of Thrift Supervision.
Nadine Y. Washington,
Corporate Secretary.

[FR Doc. 00-25451 Filed 10-3-00; 8:45 am]

BILLING CODE 6720-01-M